DEPARTMENT OF COMMERCE

Foreign-Trade Zones Board

[S-78-2021]

Approval of Subzone Status; Watco Transloading, LLC; Parsons, Kansas

On May 18, 2021, the Executive Secretary of the Foreign-Trade Zones (FTZ) Board docketed an application submitted by the Board of County Commissioners of Sedgwick County, grantee of FTZ 161, requesting subzone status subject to the existing activation limit of FTZ 161, on behalf of Watco Transloading, LLC, in Parsons, Kansas.

The application was processed in accordance with the FTZ Act and Regulations, including notice in the Federal Register inviting public comment (86 FR 27827, May 24, 2021). The FTZ staff examiner reviewed the application and determined that it meets the criteria for approval.

Pursuant to the authority delegated to the FTZ Board Executive Secretary (15 CFR 400.36(f)), the application to establish Subzone 161D was approved on July 8, 2021, subject to the FTZ Act and the Board's regulations, including Section 400.13, and further subject to FTZ 161's 2,000-acre activation limit.

Dated: July 8, 2021.
Andrew McGilvray,
Executive Secretary.

[FR Doc. 2021-14956 Filed 7-13-21; 8:45 am]

BILLING CODE 3510-DS-P